DEPARTMENT OF HOMELAND SECURITY

U.S. Customs and Border Protection

Country of Origin Marking for the Republic of Kosovo

AGENCIES: Customs and Border Protection, Department of Homeland Security; Department of the Treasury.

ACTION: Notice of policy.

SUMMARY: On February 18, 2008, the United States recognized the Republic of Kosovo as a sovereign and independent state and announced that full diplomatic relations would begin immediately. This document notifies the public of the name and English spelling that is to be used for country of origin marking on merchandise imported into the United States from the Republic of Kosovo. The notice also establishes a transition period during which Customs and Border Protection (CBP) will permit the importation of merchandise from the newly independent state with the marking, “Serbia.”

DATES: April 23, 2008.

FOR FURTHER INFORMATION CONTACT: Richard Mojica, Regulations and Rulings, Office of International Trade, (202) 572-8789.

SUPPLEMENTARY INFORMATION:

Background

Section 304 of the Tariff Act of 1930, as amended (19 U.S.C. 1304), provides that, unless excepted, every article of foreign origin (or its container) imported into the United States shall be marked in a conspicuous place as legibly, indelibly, and permanently as the nature of the article (or its container) will permit, in such a manner as to indicate to the ultimate purchaser in the United States the English name of the country of origin of the article. Customs and Border Protection (CBP) has authority pursuant to 19 U.S.C. 1304 to determine the character of the words and phrases or abbreviations thereof that will be acceptable as indicating the country of origin, and may require the addition of any other words or symbols which may be appropriate to prevent deception or mistake as to the origin of the article.

In view of the political independence of the Republic of Kosovo, and in recognition of their independent status by the United States as of February 18, 2008, merchandise originating in that country and imported into the United States is subject to marking with the English name of the independent state. The short form English name of the newly independent country is: “Kosovo.” It is acceptable for merchandise to be marked using long form names such as “Republic of Kosovo,” provided that the short form name is part of the phrase.

Recognizing that manufacturers and importers may need time to adjust to these changes, and that an abrupt change could cause undue hardship, CBP will permit goods from the Republic of Kosovo to be marked “Serbia” until February 18, 2009. After that date, all merchandise originating in the Republic of Kosovo will be required to be marked with the new names as set forth above.

Dated: April 16, 2008.
Daniel Baldwin,
Assistant Commissioner, Office of International Trade, U.S. Customs and Border Protection.

[FR Doc. E8-8753 Filed 4-22-08; 8:45 am]

BILLING CODE 9111-14-P